FEDERAL COMMUNICATIONS COMMISSION

Deletion of Agenda Items From September 25, 2008 Open Meeting

September 25, 2008.

The following items have been deleted from the list of Agenda items scheduled for consideration at the September 25, 2008, Open Meeting and previously listed in the Commission's Notice of September 18, 2008, 73 FR 55082, September 25, 2008. Item 3 has been adopted by the Commission.

3 | Media | Title: Kidd Communications and Pamplin Broadcasting-Oregon, Inc. Applications for a Construction Permit for New AM Station at Truckee, California and Jacksonville, Oregon.
|  | Summary: The Commission will consider a Memorandum Opinion and Order concerning an Application for Review by Kidd Communications.

Federal Communications Commission.
Marlene H. Dortch,
Secretary.

[FR Doc. E8-22933 Filed 9-25-08; 4:15 pm]

BILLING CODE 6712-01-P